SMALL BUSINESS ADMINISTRATION

[Declaration of Disaster #3579]

Commonwealth of Pennsylvania

York County and the contiguous counties of Adams, Cumberland, Dauphin, and Lancaster in the Commonwealth of Pennsylvania, and Baltimore, Carroll, and Harford counties in the State of Maryland constitute a disaster area due to damages caused by heavy rain, high winds, and flooding that occurred on May 9 and 10, 2004. Applications for loans for physical damage may be filed until the close of business on July 26, 2004 and for economic injury until the close of business on February 28, 2005 at the address listed below or other locally announced locations: U.S. Small Business Administration, Disaster Area 1 Office, 360 Rainbow Blvd. South, 3rd Floor, Niagara Falls, NY 14303.

The interest rates are:

| Percent
For Physical Damage:
Homeowners With Credit Available Elsewhere | 5.750
Homeowners Without Credit Available Elsewhere | 2.875
Businesses With Credit Available Elsewhere | 5.500
Businesses and Non-Profit Organizations Without Credit Available Elsewhere | 2.750
Others (Including Non-Profit Organizations) With Credit Available Elsewhere | 4.875
For Economic Injury:
Businesses and Small Agricultural Cooperatives Without Credit Available Elsewhere | 2.750

The number assigned to this disaster for physical damage is 357906 for Pennsylvania; 358006 for Maryland; and for economic damage is 9ZF500 for Pennsylvania and 9ZF600 for Maryland.

(Catalog of Federal Domestic Assistance Program Nos. 59002 and 59008)
Dated: May 27, 2004.
Hector V. Barreto,
Administrator.

[FR Doc. 04-12847 Filed 6-7-04; 8:45 am]

BILLING CODE 8025-01-P